DEPARTMENT OF ENERGY

Federal Energy Regulatory Commission

[Docket No. OR09-7-000]

Frontier Oil and Refining Company, Complainant v. Platte Pipe Line Company, Respondent; Notice of Complaint

April 22, 2009.

Take notice that on April 17, 2009, Frontier Oil and Refining Company (Frontier) filed a complaint against Platte Pipe Line Company (Platte) pursuant to sections 9, 13(1), 1(4), 1(6), 3(1), 15(1), and 16(1) of the Interstate Commerce Act (ICA), 49 U.S.C. 9, 13(1), 1(4), 1(6), 3(1), 15(1), 16(1), 18 CFR 343.2(c)(3), and 18 CFR 385.206, alleging that Platte has failed to implement its prorationing policy as stated in its Supplement No. 13 to Tariff No. 1456, filed with the Commission on November 13, 2007 in Docket No. IS08-39-000, and that Platte's prorationing procedures as applied in March 2009 violate sections 1(4), 1(6), and 3(1) of the ICA.

Frontier certifies that copies of the complaint were served on the contacts for Platte as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 7, 2009.

Kimberly D. Bose,
Secretary.

[FR Doc. E9-9710 Filed 4-28-09; 8:45 am]

BILLING CODE 6717-01-P